DEPARTMENT OF TRANSPORTATION

Federal Aviation Administration

14 CFR Part 39

[Docket No. FAA-05-19473; Directorate Identifier 2004-CE-35-AD; Amendment 39-14146; AD 2005-13-09]

RIN 2120-AA64

Airworthiness Directives; GROB-WERKE Model G120A Airplanes

AGENCY: Federal Aviation Administration (FAA), DOT.

ACTION: Final rule; request for comments.

SUMMARY: The FAA adopts a new airworthiness directive (AD) for certain GROB-WERKE Model G120A airplanes. This AD requires you to replace the main landing gear (MLG) up-lock hook assembly. This AD results from mandatory continuing airworthiness information (MCAI) issued by the airworthiness authority for Germany. We are issuing this AD to prevent the MLG from becoming jammed and not extending, which could result in loss of control of the airplane during landing. During the comment period for the notice of proposed rulemaking (NPRM) regarding this action, we received a comment recommending the incorporation of service information to install connecting bolts secured with cotter pins instead of connecting bolts secured with snap rings. All U.S.-registered airplanes currently have these actions incorporated so these actions do not impose an additional burden over that proposed in the NPRM and prior public comment is not necessary. However, we are reopening the comment period to allow the public the chance to comment on these additional actions.

DATES: This AD becomes effective on July 26, 2005.

As of July 26, 2005, the Director of the Federal Register approved the incorporation by reference of certain publications listed in the regulation.

We must receive any comments on this AD by September 20, 2005.

ADDRESSES: Use one of the following to submit comments on this AD:

DOT Docket Web site: Go to http://dms.dot.gov and follow the instructions for sending your comments electronically.

Government-wide rulemaking Web site: Go to http://www.regulations.gov and follow the instructions for sending your comments electronically.

Mail: Docket Management Facility; U.S. Department of Transportation, 400 Seventh Street, SW., Nassif Building, Room PL-401, Washington, DC 20590-001.

Fax: 1-202-493-2251.

Hand Delivery: Room PL-401 on the plaza level of the Nassif Building, 400 Seventh Street, SW., Washington, DC, between 9 a.m. and 5 p.m., Monday through Friday, except Federal holidays.

To get the service information identified in this proposed AD, contact GROB-WERKE, Burkart Grob e.K., Unternehmenbereich Luft-und Raumfahrt, Lettenbachstrasse 9, 86874 Tussenhausen-Mattsies, Germany; telephone: 011 49 8268 998 105; facsimile: 011 49 8268 998 200.

To view the comments to this AD, go to http://dms.dot.gov. The docket number is FAA-05-19473; Directorate Identifier 2004-CE-35-AD.

FOR FURTHER INFORMATION CONTACT: Karl Schletzbaum, Aerospace Engineer, ACE-112, Small Airplane Directorate, 901 Locust, Room 301, Kansas City, Missouri 64106; telephone: 816-329-4146; facsimile: 816-329-4090.

SUPPLEMENTARY INFORMATION:

Discussion

What events have caused this AD? The Luftfahrt-Bundesamt (LBA), which is the airworthiness authority for Germany, recently notified FAA that an unsafe condition may exist on certain GROB-WERKE Model G120A airplanes. The LBA reports that the up-lock/main landing gear roller combination may become jammed because of contamination (i.e., dirt or dust) or misalignment of the assembly.

What is the potential impact if FAA took no action? This condition, if not corrected, could cause the MLG to become jammed and to not extend, which could result in loss of control of the airplane during landing.

Has FAA taken any action to this point? We issued a proposal to amend part 39 of the Federal Aviation Regulations (14 CFR part 39) to include an AD that would apply to certain GROB-WERKE Model G120A airplanes. This proposal was published in the Federal Register as a notice of proposed rulemaking (NPRM) on March 23, 2005 (70 FR 14599). The NPRM proposed the requirement for you to replace the main landing gear (MLG) up-lock hook assembly.

Comments

Was the public invited to comment? We provided the public the opportunity to participate in developing this AD. The following presents the comments received on the proposal and FAA's response to each comment:

Comment Issue: Incorporate Additional Actions Into the AD

What is the commenter's concern? The Director of Aircraft Maintenance of the Airline Training Center Arizona, Inc. ATCA requests that the provisions of GROB-WERKE Service Bulletin MSB 1121-060, dated March 7, 2005, be included in the FAA AD. MSB 1121-060 incorporates a design change using cotter pins in place of snap rings in the landing gear assemblies. Snap ring failure could cause landing gear up-lock failure. MSB 1121-060 eliminates the daily inspections of the landing gear. The commenter represents the operator of all 6 U.S.-registered airplanes.

What is FAA's response to the concern? The FAA agrees that incorporation of MSB 1121-060 is a reasonable action because of the following reasons:

—Using snap rings in the landing gear assemblies requires more rework than using cotter pins in the landing gear assemblies;

—Uncorporating the design change of MSB 1121-060 eliminates daily inspections;

—Additional provisions in the AD would not increase the burden on U.S. operators because ATCA has already done the actions on their 6 airplanes, and they are the only operator of the G120A in the United States; and

—The additional actions will only affect those airplanes imported to the United States.

Conclusion

What is FAA's final determination on this issue? We have carefully reviewed the available data and determined that air safety and the public interest require adopting the AD as proposed except for the changes discussed above and minor editorial corrections. We have determined that these changes and minor corrections:

—Are consistent with the intent that was proposed in the NPRM for correcting the unsafe condition; and

—Do not add any additional burden upon the public than was already proposed in the NPRM because all U.S. registered airplanes already have the additional actions incorporated.

Comments Invited

Will I have the opportunity to comment before you issue the rule? Since all 6 airplanes that are currently on the U.S. register have the additional actions incorporated, it has no adverse economic impact and imposes no additional burden on any person. Therefore, prior notice and public procedures are unnecessary.

However, we invite you to submit any written relevant data, views, or arguments regarding this AD. Send your comments to an address listed under ADDRESSES. Include “Docket No. FAA-05-19473; Directorate Identifier 2004-CE-35-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Docket Information

Where can I go to view the docket information? You may view the AD docket that contains information relating to this subject in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 6 airplanes in the U.S. registry.

What is the cost impact of this AD on owners/operators of the affected airplanes? GROB-WERKE will provide warranty credit for labor and parts.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-05-19473; Directorate Identifier 2004-CE-35-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-13-09 GROB-WERKE: Amendment 39-14146; Docket No. FAA-05-19473; Directorate Identifier 2004-CE-35-AD.

When Does This AD Become Effective?

(a) This AD becomes effective on July 26, 2005.

What Other ADs Are Affected by This Action?

(b) None.

What Airplanes Are Affected by This AD?

(c) This AD affects the following airplane models and serial numbers that are certificated in any category: Model G120A, all serial numbers beginning with 85001.

What Is the Unsafe Condition Presented in This AD?

(d) This AD is the result of a report that the main landing gear (MLG) may not extend because of contamination or misalignment of the assembly. The actions specified in this AD are intended to prevent the MLG from becoming jammed and not extending, which could result in loss of control of the airplane during landing.

What Must I Do To Address This Problem?

(e) To address this problem, you must do the following:

Actions | Compliance | Procedures
(1) Remove MLG lock-up hook assembly and replace with the new MLG lock-up hook assembly | Within 100 hours time-in-service after July 26, 2005 (the effective date of this AD), unless already done | Follow GROB-WERKE Service Bulletin No. MSB1121-060, dated March 7, 2005.
(2) Inspect the MLG for proper operation and adjust as needed | Prior to further flight after the installation of the new MLG lock-up hook assembly | Follow GROB-WERKE Service Bulletin No. MSB1121-060, dated March 7, 2005.

May I Request an Alternative Method of Compliance?

(f) You may request a different method of compliance or a different compliance time for this AD by following the procedures in 14 CFR 39.19. Unless FAA authorizes otherwise, send your request to your principal inspector. The principal inspector may add comments and will send your request to the Manager, Standards Office, FAA. For information on any already approved alternative methods of compliance, contact Karl Schletzbaum, Aerospace Engineer, ACE-112, Small Airplane Directorate, 901 Locust, Room 301, Kansas City, Missouri 64106; telephone: 816-329-4146; facsimile: 816-329-4090.

Is There Other Information That Relates to This Subject?

(g) Luftfahrt-Bundesamt Airworthiness Directive D-2004-299R2, dated March 15, 2005; and GROB-WERKE Service Bulletin No. MSB1121-060, dated March 7, 2005, also address the subject of this AD.

Does This AD Incorporate Any Material by Reference?

(h) You must do the actions required by this AD following the instructions in GROB-WERKE Service Bulletin No. MSB1121-060, dated March 7, 2005. The Director of the Federal Register approved the incorporation by reference of this service bulletin in accordance with 5 U.S.C. 552(a) and 1 CFR part 51. To get a copy of this service information, contact GROB-WERKE, Burkart Grob e.K., Unternehmenbereich Luft-und Raumfahrt, Lettenbachstrasse 9, 86874 Tussenhausen-Mattsies, Germany; telephone: 011 49 8268 998 105; facsimile: 011 49 8268 998 200. To review copies of this service information, go to the National Archives and Records Administration (NARA). For information on the availability of this material at NARA, go to: http://www.archives.gov/ federal_register/code_of_federal_ regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-05-19473; Directorate Identifier 2004-CE-35-AD.

Issued in Kansas City, Missouri, on June 14, 2005.
John R. Colomy,
Acting Manager, Small Airplane Directorate, Aircraft Certification Service.

[FR Doc. 05-12152 Filed 6-21-05; 8:45 am]

BILLING CODE 4910-13-P